DEPARTMENT OF ENERGY

Notice of Availability of Guidance on Implementing the Federal Power Act To Designate National Interest Electric Transmission Corridors

AGENCY: Grid Deployment Office, Department of Energy.

ACTION: Notice of availability.

SUMMARY: The U.S. Department of Energy (DOE) gives notice of availability of the final Guidance setting forth the nonbinding process that DOE plans to generally follow to designate National Interest Electric Transmission Corridors (NIETC) pursuant to the Federal Power Act. The Federal Power Act requires DOE to issue a report not less frequently than once every three years, which may designate as a NIETC any geographic area that is experiencing or is expected to experience electric energy transmission capacity constraints or congestion that adversely affects consumers. NIETC designation focuses public and policymaker attention on the areas of greatest transmission need and unlocks valuable Federal financing and permitting tools to advance transmission development.

DATES: Interested parties may submit information and recommendations based on the list of information requested for Phase 1 in the Guidance by 5:00 p.m. ET on February 2, 2024.

FOR FURTHER INFORMATION CONTACT: Gretchen Kershaw, U.S. Department of Energy, Grid Deployment Office, at (202) 586-2006; or NIETC@hq.doe.gov.

SUPPLEMENTARY INFORMATION: DOE's Grid Deployment Office (GDO) is announcing the availability of the Guidance on Implementing Section 216(a) of the Federal Power Act to Designate National Interest Electric Transmission Corridors (NIETC Guidance). Section 216(a)(2) of the Federal Power Act (FPA), as amended by section 40105 of the Infrastructure Investment and Jobs Act (IIJA), requires DOE to issue a report not less frequently than once every three years, which may designate as a NIETC any geographic area that is experiencing or is expected to experience electric energy transmission capacity constraints or congestion that adversely affects consumers. DOE must base any NIETC designation on the findings of DOE's triennial nationwide study required by FPA section 216(a)(1), which DOE refers to as the National Transmission Needs Study (Needs Study), or other information relating to electric energy transmission capacity constraints or congestion. In addition, the FPA requires DOE to consider alternatives and recommendations from interested parties (including an opportunity for comment from affected States and Indian Tribes) and to consult with regional entities when designating a NIETC. FPA section 216(a)(4) allows DOE to also consider several additional factors in designating a NIETC.

The NIETC Guidance describes DOE's intended implementation of this statutory authority and initiates the process for designating one or more NIETCs following issuance of the Needs Study released in October 2023. The NIETC Guidance expands on DOE's May 15, 2023, Notice of Intent and Request for Information, which set forth key elements of a process through which interested parties could propose NIETC designation and requested comment on the process generally and in response to other specific questions (88 FR 30956). The NIETC Guidance includes revisions made in response to comments and input DOE received.

The NIETC Guidance sets forth a four-phase process, which begins with DOE's evaluation of the results of the most recent final Needs Study to begin identifying potential geographic areas for NIETC designation and concurrent opening of a 45-day Phase 1 information submission window. During this window, interested parties may submit information and recommendations on the narrow geographic boundaries of potential NIETCs, the present or expected transmission capacity constraints or congestion within those geographic boundaries, and the relevant discretionary factors in FPA section 216(a)(4). Phase 2 of the NIETC designation process begins with DOE's public issuance of a preliminary list of potential NIETC designations. This opens a 45-day comment period and Phase 2 information submission window for submission of additional information on geographic boundaries and permitting. DOE plans to prioritize which potential NIETCs move to Phase 3 based on the available information on geographic boundaries and permitting and preliminary review of comments. During Phase 3, DOE continues to independently assess the basis for NIETC designation, initiates any needed environmental reviews, and conducts robust public engagement, culminating in the release of one or more draft designation reports and draft environmental documents, as needed, for public comment. Phase 4 is the conclusion of the NIETC designation process, with issuance of one or more final designation reports and final environmental documents, as needed.

NIETC designation focuses public and policymaker attention on the areas of greatest transmission need and unlocks valuable federal financing and permitting tools to advance transmission development. These include DOE authorities under the IIJA, the Inflation Reduction Act, and the Energy Policy Act of 2005, as well as the Federal Energy Regulatory Commission's permitting authority under FPA section 216(b). Members of the public can visit GDO's website to access the NIETC Guidance at: https://www.energy.gov/sites/default/files/2023-12/2023-12-15%20GDO%20NIETC%20Final%20Guidance%20Document.pdf.

Signing Authority

This document of the Department of Energy was signed on January 2, 2024, by Maria D. Robinson, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. The administrative process in no way alters the legal effect of this document upon publication in the Federal Register.

Signed in Washington, DC, on January 3, 2024.
Treena V. Garrett,
Federal Register Liaison Officer, U.S. Department of Energy.

[FR Doc. 2024-00102 Filed 1-5-24; 8:45 am]

BILLING CODE 6450-01-P